COMMITTEE FOR PURCHASE FROM PEOPLE WHO ARE BLIND OR SEVERELY DISABLED

Procurement List; Proposed Additions and Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: June 06, 2021.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities. The following product(s) and service(s) are proposed for addition to the Procurement List for production by the nonprofit agencies listed:

Product(s)

NSN(s)—Product Name(s):

MR 16400—Sunglasses, Women's Fashion

MR 16401—Sunglasses, Women's Aviator

MR 16402—Sunglasses, Polarized Assorted

MR 16403—Sunglasses, Metal Assorted

MR 16404—Sunglasses, Sport Assorted

Designated Source of Supply: Winston-Salem Industries for the Blind, Inc., Winston-Salem, NC

Mandatory For: The requirements of military commissaries and exchanges in accordance with the 41 CFR 51-6.4

Contracting Activity: Military Resale-Defense Commissary Agency

Distribution: C-List

Service(s)

Service Type: Mailroom, Courier, and Copy Center Service

Mandatory for: Consumer Financial Protection Bureau, Washington, DC

Designated Source of Supply: NewView Oklahoma, Inc., Oklahoma City, OK

Contracting Activity: Consumer Financial Protection Bureau, Consumer Finance Protection Bureau

Deletions

The following product(s) and service(s) are proposed for deletion from the Procurement List:

Product(s)

NSN(s)—Product Name(s): MR 1165—Cloth, Dish, Terry Looped

Designated Source of Supply: Alphapointe, Kansas City, MO

Contracting Activity: Military Resale-Defense Commissary Agency

NSN(s)—Product Name(s): 6230-01-641-0755—Flashlight, Tactical-Style, LED, 2 AAA, 6″ Long

Mandatory Source of Supply: Central Association for the Blind & Visually Impaired, Utica, NY

Contracting Activity: DLA Troop Support, Philadelphia, PA

Service(s)

Service Type: Custodial Services

Mandatory for: Social Security Administration Building: Plaza Sierra Cayey, Building PR3871ZZ, Cayey, PR

Designated Source of Supply: The Corporate Source, Inc., Garden City, NY

Contracting Activity: Public Buildings Service, PBS R2

Michael R. Jurkowski,
Deputy Director, Business Operations.

[FR Doc. 2021-09666 Filed 5-6-21; 8:45 am]

BILLING CODE 6353-01-P